NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by March 14, 2018. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2015-011) to Ari Friedlaender on December 3, 2014. The issued permit allows the permit holder to take biopsy samples and photographs for identification of humpback (n = 200 biopsy & photo-ID), Antarctic minke (n = 50 biopy; 200 photo-ID), killer (n = 50; 200 photo-ID), and Arnoux's beaked (n = 50; 200 photo-ID) whales in the Southern Ocean. The permit also allowed for 10 satellite-tagging takes of humpback whales.

A recent modification to this permit, dated December 31, 2015, permitted the applicant to increase the number of satellite-tagging takes of humpback whales to 20 and to add 10 dart tag takes and 20 suction cup tag takes for both humpbacks and Antarctic minke whales. Now the permit holder proposes a modification to his permit to increase biopsy takes to 250 for all four whale species listed on the original permit. Of those 250 biopsy takes, 50 would be associated with approaches that would also include tagging and the remaining 200 biopsy takes would occur during approaches that do not involve tagging. The proposed modification would also increase the number of dart tags takes of humpback whales (from 10 to 30) and Antarctic minke whales (from 10 to 20) and increase the number of suction cup tagging takes of Antarctic minke whales from 20 to 30. In addition, the permit holder proposes to add takes for dart tagging (n = 10) and suction cup tagging (n = 40) of Arnoux's beaked whales as well as 50 suction cup tagging takes for killer whales. Finally, the permit holder would add southern right whales to his ACA permit and is requesting 250 biopsy takes, 200 photo-ID takes, and 50 suction cup tagging takes for this species. This ACA permit modification would increase the consistency of takes with those allowed under the most recent amendment of National Marine Fisheries Service Permit No. 14809-03 on which the ACA permit holder is an approved Co-Investigator.

Location: Antarctic Peninsula between Marguerite Bay and the Gerlache Strait, inshore waters.

Dates of Permitted Activities: March 1-December 31, 2018.

Nadene G. Kennedy,
Polar Coordination Specialist, Office of Polar Programs.

[FR Doc. 2018-02705 Filed 2-9-18; 8:45 am]

BILLING CODE 7555-01-P